DEPARTMENT OF THE INTERIOR

Bureau of Indian Affairs

25 CFR Part 292

RIN 1076-AD93

Gaming on Trust Lands Acquired After October 17, 1988

AGENCY: Bureau of Indian Affairs, Interior.

ACTION: Proposed rule: reopening of comment period.

SUMMARY: This notice reopens the comment period for the proposed rule that was published in the Federal Register on September 14, 2000.

EFFECTIVE DATE: Comments must be received on or before February 25, 2002.

ADDRESSES: Mail comments to George Skibine, Director, Office of Indian Gaming Management, Bureau of Indian Affairs, 1849 C Street NW, MS 2070-MIB, Washington, DC 20240. Comments may be hand delivered to the same address from 9 a.m. to 4 p.m., Monday through Friday or sent by facsimile to 202-273-3153.

FOR FURTHER INFORMATION CONTACT: Nancy Pierskalla, Office of Indian Gaming Management, 202-219-4066.

SUPPLEMENTARY INFORMATION: On September 14, 2000, the Bureau of Indian Affairs published a proposed rule (65 FR 55471) concerning Gaming on Trust Lands Acquired After October 17, 1988. The deadline for receipt of comments was November 13, 2000. Six comments were received after November 13, 2000. Several of these comments raise substantive issues that may result in modification of the proposed rule. The comment period is reopened to allow consideration of the comments received after November 13, 2000, and to allow additional time for comment on the proposed rule. Comments must be received on on before March 27, 2002.

This notice is published in accordance with the authority delegated by the Secretary of the Interior to the Assistant Secretary—Indian Affairs by 209 Department Manual 8.1.

Dated: December 11, 2001.
Neal A. McCaleb,
Assistant Secretary, Indian Affairs.

[FR Doc. 01-31664 Filed 12-26-01; 8:45 am]

BILLING CODE 4310-02-M